DEPARTMENT OF ENERGY

Federal Energy Regulatory Commission

Combined Notice of Filings #1

Take notice that the Commission received the following electric corporate filings:

Docket Numbers: EC14-88-000.

Applicants: Tucson Electric Power Company, UNS Electric, Inc., Gila River Power LLC.

Description: Application under FPA Section 203 of Tucson Electric Power Company, et. al.

Filed Date: 5/15/14.

Accession Number: 20140515-5270.

Comments Due: 5 p.m. e.t. 6/16/14.

Take notice that the Commission received the following electric rate filings:

Docket Numbers: ER11-4363-002; ER11-4498-007; ER11-4499-007; ER14-325-003; ER11-4500-006; ER11-4507-006; ER12-128-004; ER11-4501-008; ER12-979-007; ER12-2542-004; ER12-2448-007; ER13-2409-003.

Applicants: Osage Wind, LLC, Smoky Hills Wind Farm, LLC, Smoky Hills Wind Project II, LLC, Enel Cove Fort, LLC, Enel Stillwater, LLC, Canastota Windpower, LLC, EGP Stillwater Solar, LLC, Caney River Wind Project, LLC, Rocky Ridge Wind Project, LLC, Prairie Rose Wind, LLC, Chisholm View Wind Project, LLC, Buffalo Dunes Wind Project, LLC.

Description: Notice of Non-Material Change in Status of Osage Wind, LLC, et al.

Filed Date: 5/15/14.

Accession Number: 20140515-5274.

Comments Due: 5 p.m. e.t. 6/5/14.

Docket Numbers: ER13-2477-003; ER10-1946-006; ER11-3859-008; ER13-2476-003; ER11-3861-007; ER11-3864-008; ER13-2475-003; ER11-3866-008; ER12-192-006; ER11-3867-008; ER11-3857-008; ER12-1725-004; ER11-4266-007.

Applicants: Brayton Point Energy, LLC, Broad River Energy LLC, Dighton Power, LLC, Elwood Energy, LLC, Empire Generating Co, LLC, EquiPower Resources Management, LLC, Kincaid Generation, L.L.C., Lake Road Generating Company, L.P., Liberty Electric Power, LLC, MASSPOWER, Milford Power Company, LLC, Red Oak Power, LLC, Richland-Stryker Generation LLC.

Description: Motion to Suspend Energy Capital Partners? Market Based Rate Authority, et al.

Filed Date: 5/12/14.

Accession Number: 20140512-5250.

Comments Due: 5 p.m. e.t. 6/2/14.

Docket Numbers: ER14-456-002.

Applicants: PJM Interconnection, L.L.C.

Description: Compliance Filing per 4/18/2014 Order in Docket No. ER14-456 to be effective 1/22/2014.

Filed Date: 5/16/14.

Accession Number: 20140516-5076.

Comments Due: 5 p.m. e.t. 6/6/14.

Docket Numbers: ER14-1970-000.

Applicants: Midcontinent Independent System Operator, Inc.

Description: 2014-05-15 TOA revs re Prohibited Investments to be effective 7/15/2014.

Filed Date: 5/15/14.

Accession Number: 20140515-5257.

Comments Due: 5 p.m. e.t. 6/5/14.

Docket Numbers: ER14-1971-000.

Applicants: Southern California Edison Company.

Description: True-Up SGIA & Distrib Serv Agmt with SCE's Transmission & Distrib Business Unit to be effective 7/16/2014.

Filed Date: 5/16/14.

Accession Number: 20140516-5002.

Comments Due: 5 p.m. e.t. 6/6/14.

Docket Numbers: ER14-1972-000.

Applicants: Southern California Edison Company.

Description: Notices of Cancellation of GIA and Distribution Service Agmt with Searles to be effective 7/16/2014.

Filed Date: 5/16/14.

Accession Number: 20140516-5003.

Comments Due: 5 p.m. e.t. 6/6/14.

Docket Numbers: ER14-1973-000.

Applicants: PacifiCorp.

Description: PacifiCorp submits tariff filing per 35.15: Termination of IPCo Goshen-Kinport Line Com and Relay Mod Agreement to be effective 7/17/2014.

Filed Date: 5/16/14.

Accession Number: 20140516-5115.

Comments Due: 5 p.m. e.t. 6/6/14.

Docket Numbers: ER14-1974-000.

Applicants: California Independent System Operator Corporation.

Description: California Independent System Operator Corporation submits tariff filing per 35.13(a)(2)(iii: 2014-05-16_RiversideMSSA_Amendment to be effective 7/16/2014.

Filed Date: 5/16/14.

Accession Number: 20140516-5164.

Comments Due: 5 p.m. e.t. 6/6/14.

Docket Numbers: ER14-1975-000.

Applicants: Oklahoma Gas and Electric Company.

Description: Oklahoma Gas and Electric Company submits tariff filing per 35.15: Notice of Termination Schedule 106 to be effective 5/31/2014.

Filed Date: 5/16/14.

Accession Number: 20140516-5179.

Comments Due: 5 p.m. e.t. 6/6/14.

Docket Numbers: ER14-1976-000.

Applicants: Plainfield Renewable Energy, LLC.

Description: Plainfield Renewable Energy, LLC submits tariff filing per 35.13(a)(2)(iii: First Revised MBR Tariff to be effective 5/17/2014.

Filed Date: 5/16/14.

Accession Number: 20140516-5193.

Comments Due: 5 p.m. e.t. 6/6/14.

Take notice that the Commission received the following electric securities filings:

Docket Numbers: ES14-42-000.

Applicants: MDU Resources Group, Inc.

Description: Application under Section 204 in connection Long-Term Performance-Based Incentive Plan of MDU Resources Group, Inc.

Filed Date: 5/16/14.

Accession Number: 20140516-5116.

Comments Due: 5 p.m. e.t. 6/6/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2014.
Nathaniel J. Davis, Sr.,
Deputy Secretary.

[FR Doc. 2014-12186 Filed 5-23-14; 8:45 am]

BILLING CODE 6717-01-P